EXPORT-IMPORT BANK

Sunshine Act Meetings; Notice of Open Meeting of the Advisory Committee of the Export-Import Bank of the United States (EXIM)

TIME AND DATE: Monday, June 13th, 2022, from 2:30 p.m.-4:30 p.m. ET.

PLACE: Hybrid meeting—811 Vermont Ave. NW, Washington, DC 20571 and Virtual. The meeting will be conducted in person for committee members, EXIM's Board of Directors, and support staff, and virtually for all other participants.

STATUS: Virtual Public Participation: The meeting will be open to public participation virtually and time will be allotted for questions or comments submitted online. Members of the public may also file written statements before or after the meeting to external@exim.gov. Interested parties may register for the meeting at: https://teams.microsoft.com/registration/PAFTuZHHMk2Zb1GDkIVFJw,5M1LfonJMEi2VFUgYRv6oQ,i145n2l9vkmDj5btNlkuGw,VTUQOf0ElEOQNCL5M1TaFQ,K2OcDrV0J02pkcm6-gM0Jg,uuGSaQQTnkC8jMnni1JJ8w?mode=read&tenantId=b953013c-c791-4d32-996f-518390854527.

MATTERS TO BE CONSIDERED: Discussion of EXIM policies and programs to provide competitive financing to expand United States exports and comments for inclusion in EXIM's Report to the U.S. Congress on Global Export Credit Competition.

CONTACT PERSON FOR MORE INFORMATION: For further information, contact India Walker, External Enagagement Specialist, at 202-480-0062 or at india.walker@exim.gov.

Joyce B. Stone,
Assistant Corporate Secretary.

[FR Doc. 2022-11805 Filed 5-27-22; 11:15 am]

BILLING CODE 6690-01-P